DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, N.W., Washington, D.C. 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 7, 2000, through March 31, 2000.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Bureau of Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Kathy Timoteo and Montez Boyd on behalf of Cydney J. Boyd, Deceased, Torrance, California, Court of Federal Claims Number 00-0009

2. Bernadette Elkins on behalf of Jaclyn Christin Elkins, Pasadena, Texas, Court of Federal Claims Number 00-0014

3. Kathy and Dan Cassidy on behalf of Shane Cassidy, Vienna, Virginia, Court of Federal Claims Number 00-0017

4. Katie and Ralph Hallenborg on behalf of Eric Miles Hallenborg, Vienna, Virginia, Court of Federal Claims Number 00-0019

5. Cheryl Pisano, Ocala, Florida, Court of Federal Claims Number 00-0019

6. Jessica and Scott Phillips on behalf of Cody James Phillips, Deceased, Altamont, New York, Court of Federal Claims Number 00-0024

7. Alicia B. Hicks on behalf of Melvin B. Paschal, Jr., Deceased, Atlanta, Georgia, Court of Federal Claims Number 00-0026

8. Geoffrey Dubrowsky on behalf of Daniel Dubrowsky, Red Bank, New Jersey, Court of Federal Claims Number 00-0027

9. Mary L. and Davy B. Wildman on behalf of Nickolas B. Wildman, Butler, Pennsylvania, Court of Federal Claims Number 00-0032

10. Linda Swisher on behalf of Joshua R. McNellis, Long Beach, California, Court of Federal Claims Number 00-0033

11. Svetlana Drozdova on behalf of Dennis A. Drozdova, Brooklyn, New York, Court of Federal Claims Number 00-0041

12. Catherine Anne Scully-Luderer, Encino, California, Court of Federal Claims Number 00-0042

13. Lisa and David Masha on behalf of Travis Masha, Grosse Pointe, Michigan, Court of Federal Claims Number 00-0044

14. Barbara Aiello-Fallon on behalf of William Gabriel Fallon, Staten Island, New York, Court of Federal Claims Number 00-0045

15. Elizabeth Feather on behalf of Shae Feather, Boston, Massachusetts, Court of Federal Claims Number 00-0047

16. Andrea Shaffer and Timothy Hawthorne on behalf of Matthew Aubrey Shaffer, Harker Heights, Texas, Court of Federal Claims Number 00-0052

17. Lucinda Valdovi Montano on behalf of Joanne Montano, Los Angeles, California, Court of Federal Claims Number 00-0058

18. Deann and Joseph Comiskey on behalf of Jaclynne R. Comiskey, Deceased, Albuquerque, New Mexico, Court of Federal Claims Number 00-0060

19. Luann Parker, Cincinnati, Ohio, Court of Federal Claims Number 00-0072

20. Barbara and Jerry Pharr on behalf of Shelia Pharr, Lincolnton, North Carolina, Court of Federal Claims Number 00-0079

21. Jason Coulter and Jill Bonovic on behalf of Sierra Coulter, Appleton, Wisconsin, Court of Federal Claims Number 00-0081

22. Gary Jacob on behalf of Tanya Jacob, Santa Monica, California, Court of Federal Claims Number 00-0084

23. Rosalinda and Jose Lopez on behalf of Steven Lopez, Premont, Texas, Court of Federal Claims Number 00-0088

24. Brenda Ejemai, Brooklyn, New York, Court of Federal Claims Number 00-0090

25. Letecia and Timothy Tremaine on behalf of Devine Sara Tremaine, Merrionette Park, Illinois, Court of Federal Claims Number 00-0094

26. Eileen and Robert Seemayer on behalf of Patrick Robert Seemayer, Redwood City, California, Court of Federal Claims Number 00-0095

27. Michelle Carlisle on behalf of Justin Hunter Carlisle, Houston, Texas, Court of Federal Claims Number 00-0110

28. Martha Marie Valasquez on behalf of Joseph Adam Ward, Crockett, Texas, Court of Federal Claims Number 00-0117

29. Michel Tudor on behalf of Bria Tudor, New York, New York, Court of Federal Claims Number 00-0118

30. Jennifer and Carroll Williams on behalf of Steven Paul Williams, Deceased, Iuka, Mississippi, Court of Federal Claims Number 00-0123

31. John R. Taylor, Atkinson, Nebraska, Court of Federal Claims Number 00-0126

32. Gerald W. Doffing, Polk, Wisconsin, Court of Federal Claims Number 00-0131

33. Pennie and Darrell Summers on behalf of Darrius Nathan Summers, Hyattsville, Maryland, Court of Federal Claims Number 00-0132

34. Evangelina Guzman-DeMello on behalf of Jeremy Xavier DeMello, St. Paul, Minnesota, Court of Federal Claims Number 00-0133

35. Nikki Embree on behalf of Mackenzie Embree, Independence, Missouri, Court of Federal Claims Number 00-0142

36. Norma Jean Allen, Indianapolis, Indiana, Court of Federal Claims Number 00-0145

37. George C. Lewis, Beeville, Texas, Court of Federal Claims Number 00-0146

38. Patricia A. Nash on behalf of James Todd Nash, Markham, Illinois, Court of Federal Claims Number 00-0149

39. Cindy Cairns on behalf of Mitchell Cairns, San Jose, California, Court of Federal Claims Number 00-0158

40. Margaret Althen, Boston, Massachusetts, Court of Federal Claims Number 00-0170

Claude Earl Fox,
Administrator.

[FR Doc. 00-17813 Filed 7-13-00; 8:45 am]

BILLING CODE 4160-15-P